DEPARTMENT OF ENERGY

Federal Energy Regulatory Commission

[Project No. 15021-000]

Bard College, New York; Notice of Application Ready for Environmental Analysis and Soliciting Comments, Recommendations, and Terms and Conditions

Take notice that the following hydroelectric application has been filed with the Commission and is available for public inspection.

a. Type of Application: Exemption from Licensing.

b. Project No.: 15021-000.

c. Date filed: December 23, 2019.

d. Applicant: Bard College, New York.

e. Name of Project: Annandale Micro Hydropower Project (Annandale Project).

f. Location: On Saw Kill, a tributary of the Hudson River, in the Town of Red Hook, Dutchess County, New York. The project does not occupy federal land.

g. Filed Pursuant to: Public Utility Regulatory Policies Act of 1978, 16 U.S.C. 2705, 2708 (2018), amended by the Hydropower Regulatory Efficiency Act of 2013, Public Law 113-23, 127 Stat. 493 (2013).

h. Applicant Contact: Randy Clum, Director, Buildings and Grounds, Bard College, 30 Campus Road, Annandale-on-Hudson, NY 12504; and/or Joel Herm/Jan Borchert, Current Hydro, Inc., P.O. Box 224, Rhinebeck, NY 12572.

i. FERC Contact: Monir Chowdhury, (202) 502-6736 or monir.chowdhury@ferc.gov.

j. Deadline for filing comments, recommendations, and terms and conditions: 60 days from the issuance date of this notice; reply comments are due 105 days from the issuance date of this notice.

The Commission strongly encourages electronic filing. Please file comments, recommendations, and terms and conditions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15021-000.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted and is ready for environmental analysis at this time.

The Council on Environmental Quality (CEQ) issued a final rule on July 15, 2020, revising the regulations under 40 CFR parts 1500-1518 that federal agencies use to implement the National Environmental Policy Act (NEPA) (see Update to the Regulations Implementing the Procedural Provisions of the National Environmental Policy Act, 85 FR 43,304). The Final Rule became effective on and applies to any NEPA process begun after September 14, 2020. An agency may also apply the regulations to ongoing activities and environmental documents begun before September 14, 2020, which includes the proposed Annandale Project. Commission staff intends to conduct its NEPA review in accordance with CEQ's new regulations.

l. Project Description: The Annandale Project would consist of: (1) An existing 240-foot-long dam with a maximum height of 13 feet impounding a 3-acre reservoir at a normal pool elevation of 148 feet North American Vertical datum of 1988; (2) one new 9-foot-wide, 9-foot-long, 8-foot-high concrete tank with a spiral internal shape and housing a 10-kilowatt gravitational vortex turbine-generator unit; (3) a new 60-foot-long, 480-volt underground generator lead connecting the turbine-generator unit with an electrical panel that is connected to a step-up transformer via a new 10-foot-long, 480-volt underground transmission line; (4) a new 50-foot-long, 7.6-kilovolt underground transmission line connecting the step-up transformer to the local grid; and (5) appurtenant facilities. The project is estimated to generate an average of 51 megawatt-hours annually. The applicant proposes to operate the project in a run-of-river mode.

m. A copy of the application can be viewed on the Commission's website at https://www.ferc.gov using the “eLibrary” link. Enter the docket number excluding the last three digits in the docket number field to access the document. For assistance, contact FERC Online Support.

All filings must (1) bear in all capital letters the title “COMMENTS,” “REPLY COMMENTS,” “RECOMMENDATIONS,” or “TERMS AND CONDITIONS;” (2) set forth in the heading the name of the applicant and the project number of the application to which the filing responds; (3) furnish the name, address, and telephone number of the person submitting the filing; and (4) otherwise comply with the requirements of 18 CFR 385.2001 through 385.2005. All comments, recommendations, and terms and conditions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

o. With this notice, we are initiating informal consultation with the U.S. Fish and Wildlife Service and NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the New York State Historic Preservation Officer, as required by section 106 of the National Historic Preservation Act, and the implementing regulations of the Advisory Council on Historic Preservation at 36 CFR 800.2.

p. Updated procedural schedule and final amendments: The application will be processed according to the following procedural schedule. Revisions to the schedule may be made as appropriate.

Milestone | Target date
Deadline for Filing Comments, Recommendations, and Agency Terms and Conditions/Prescriptions | September 2021.
Deadline for Filing Reply Comments | October 2021.

q. Final amendments to the application must be filed with the Commission no later than 30 days from the issuance date of the notice of ready for environmental analysis.

Dated: July 9, 2021.
Kimberly D. Bose,
Secretary.

[FR Doc. 2021-15057 Filed 7-14-21; 8:45 am]

BILLING CODE 6717-01-P